GULF COAST ECOSYSTEM RESTORATION COUNCIL

[Docket No: 101122018-1111-01]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provides a written recommendation to the Chairperson of the Council for final approval of each executive's performance rating, performance-based pay adjustment, and performance award.

DATES: The board membership is applicable beginning on January 8, 2018 and ending on March 8, 2019.

FOR FURTHER INFORMATION CONTACT: Mary C. Pleffner, Chief Financial Officer and Director of Administration, Gulf Coast Ecosystem Restoration Council, telephone 813-394-2185.

SUPPLEMENTARY INFORMATION: In accordance with 5 U.S.C. 4314(c)(4), the persons named below have been selected to serve on the PRB:

Gulf Coast Ecosystem Restoration Council, Scaggs, Benjamin, Acting Executive Director.

Environmental Protection Agency, Walker, Mary, Director Water Protection Division, EPA Region 4.

United States Coast Guard, Dana S. Tulis, Director of Incident Management & Preparedness Policy.

State of Mississippi, Rikard, Gary, Executive Director of the Mississippi Department of Environmental Quality.

State of Louisiana, Barnes, Chris, Legal Advisor, Coastal Activities.

Keala J. Hughes,
Director of External Affairs & Tribal Relations, Gulf Coast Ecosystem Restoration Council.

[FR Doc. 2018-00823 Filed 1-18-18; 8:45 am]

BILLING CODE 6560-58-P